DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps (NACNHSC).

Dates and Times: November 4, 2015 12:00 p.m.-1:30 p.m. EST.

Place: U.S. Department of Health and Human Services, Health Resources and Services Administration, 5600 Fishers Lane, Rockville, Maryland 20857, Webinar Format.

Status: This advisory council meeting will be open to the public.

Purpose: The NACNHSC provides advice and recommendations to the Secretary of the U.S. Department of Health and Human Services and, by designation, the Administrator of the Health Resources and Services Administration on a range of issues including identifying the priorities for NHSC, and policy revisions.

Agenda: The Bureau of Health Workforce's Division of Policy and Shortage Designation will provide a brief on the results of the 2015 NHSC Participant Satisfaction Survey. The NACNHSC final agenda will be available on the NACNHSC Web site 3 days in advance of the meeting.

SUPPLEMENTARY INFORMATION: Further information regarding the NACNHSC including the roster of members and past meetings summaries is available at the following Web site: http://nhsc.hrsa.gov/corpsexperience/aboutus/nationaladvisorycouncil/index.html. Members of the public and interested parties may request to participate in the meeting by contacting Ashley Carothers via email at ACarothers@hrsa.gov to obtain access information. Public participants may submit written statements in advance of the scheduled meeting. If you would like to provide oral public comment during the meeting please register with the Designated Federal Official (DFO), CAPT Shari Campbell. Public comment will be limited to 3 minutes per speaker. Statements and comments can be addressed to the DFO, CAPT Shari Campbell, by emailing her at SCampbell@hrsa.gov.

In addition, please be advised that committee members are given copies of all written statements submitted from the public. Any further public participation will be solely at the discretion of the Chair, with approval of the DFO. Registration through the designated contact for the public comment session is required.

• The conference call-in number is 1-800-619-2521. The passcode is 9271697.

• The webinar link is https://hrsa.connectsolutions.com/nacnhsc2015.

FOR FURTHER INFORMATION CONTACT: Anyone requesting information regarding the NACNHSC should contact CAPT Shari Campbell, Designated Federal Official, Bureau of Health Workforce, Health Resources and Services Administration, in one of three ways: (1) Send a request to the following address: CAPT Shari Campbell, Designated Federal Official, Bureau of Health Workforce, Health Resources and Services Administration, Room 8C-26, 5600 Fishers Lane, Rockville, Maryland 20857; (2) call (301) 594-4251; or (3) send an email to scampbell@hrsa.gov.

Jackie Painter,
Director, Division of the Executive Secretariat.

[FR Doc. 2015-25959 Filed 10-9-15; 8:45 am]

BILLING CODE 4165-15-P